DEPARTMENT OF TRANSPORTATION

ITS Joint Program Office; Pre-Proposal Safety Pilot Joint Bidders Conference; Notice of Public Meeting

AGENCY: Research and Innovative Technology Administration, U.S. Department of Transportation.

ACTION: Notice.

The U.S. Department of Transportation ITS Joint Program Office (ITS JPO) is conducting a Pre-proposal Conference (“Safety Pilot Joint Bidders Conference”) on February 22, 2011 from 8:30 a.m. to 4:30 p.m. at the University of California—UC Washington Center, 1608 Rhode Island Avenue, NW., Washington, DC 20036. The conference is for interested parties to learn about and ask questions regarding the three current US DOT procurements/solicitations listed below in support of the Safety Pilot Program. US DOT officials will present and discuss the procurement process and requirements for each of the three planned procurements, as well as answer relevant questions from interested parties.

• Safety Pilot Test Conductor—Request for Proposals (RFP) DTFH61-11-R-00006 available at http://www.FedBizOpps.gov.

• Aftermarket Safety Devices—Request for Applications (RFA) DTFH61-11-RA-00003 available at http://www.Grants.gov.

• Roadside Equipment—Request for Quotations (RFQ) DTFH61-11-Q-00012 available at http://www.FedBizOpps.gov.

The Safety Pilot is intended to establish a real world model deployment test site for enabling wireless communications among vehicles and with roadside equipment for use in generating data to enable driver safety warning systems. The deployment site will encompass vehicles of various types that include a mix of integrated, retrofit, and aftermarket vehicle safety systems. The model deployment data generated will be used for establishing safety benefits in support of future policy decisions by US DOT, as well as for use by the broader industry in developing additional connected vehicle applications.

Interested parties are invited to attend in person or participate by webinar. For additional information including registration, please contact Adam Hopps (ahopps@itsa.org) or use the following link: http://www.itsa.org/itsa/files/safety_pilot_bidders_conference_registration.doc.

Issued in Washington, DC, on the 11th day of February 2011.
John Augustine,
Managing Director, ITS Joint Program Office.

[FR Doc. 2011-3604 Filed 2-16-11; 8:45 am]

BILLING CODE 4910-HY-P